DEPARTMENT OF COMMERCE

Foreign-Trade Zones Board

[Docket 44-2000]

Foreign-Trade Zone 46—Cincinnati, OH, Area Application for Zone Expansion

An application has been submitted to the Foreign-Trade Zones Board (the Board) by the Greater Cincinnati Foreign Trade Zone, Inc., grantee of FTZ 46, requesting authority to expand its zone in the Cincinnati, Ohio, area, adjacent to the Cincinnati Customs port of entry. The application was submitted pursuant to the provisions of the Foreign-Trade Zones Act, as amended (19 U.S.C. 81a-81u), and the regulations of the Board (15 CFR Part 400). It was formally filed on July 27, 2000.

FTZ 46 was approved in 1979 (Board Order 141, 44 FR 4003, 1-19-79) and relocated in 1994 (Board Order 720, 59 FR 66891, 12-28-94). In 1997 the zone was expanded to include a second, non-contiguous site (Board Order 943, 62 FR 67044, 12-23-97), and it was recently expanded with the addition of three sites in Clermont County and Brown County, some 25 miles east of Cincinnati (Board Order 1070, 64 FR 72643, 12-28-99). The zone currently consists of five sites in the greater Cincinnati area:

Site 1: (35 acres)—175 Progress Place, Springdale (Hamilton County), Ohio;

Site 2: (122 acres)—Cincinnati Machine-UNOVA facilities, 4701 Marburg Avenue, Cincinnati;

Site 3: (460 acres)—Milacron, Inc., facilities within the Clermont County Industrial Park, 4165 Half Acre Road, Batavia (Clermont County), Ohio;

Site 4: (490 acres)—Milacron, Inc., facilities within the Brown County Industrial Park, 418 West Main Street, Mt. Orab (Brown County), Ohio; and,

Site 5: (160 acres)—West Hamco Industrial Park, 4160 Half Acre Road, Batavia, Ohio.

The applicant is now requesting authority to expand Site 3 by adding additional industrial space (406 acres) located at 1981 Front Wheel Drive, Afton Industrial Area in Batavia, immediately adjacent to the western boundary of the existing site. The proposed expansion area (4 parcels) is owned by: A—Flannery Developers (89 acres); B—Central Trust (53 acres); C—Ronald E. Clark (33 acres); and D—ZF Batavia (231 acres).

No specific manufacturing requests are being made at this time. Such requests would be made to the Board on a case-by-case basis.

In accordance with the Board's regulations, a member of the FTZ Staff has been designated examiner to investigate the application and report to the Board.

Public comment on the application is invited from interested parties. Submissions (original and three copies) shall be addressed to the Board's Executive Secretary at the address below. The closing period for their receipt is October 2, 2000. Rebuttal comments in response to material submitted during the foregoing period may be submitted during the subsequent 15-day period (to October 17, 2000).

A copy of the application and the accompanying exhibits will be available for public inspection at each of the following locations:

U.S. Department of Commerce Export Assistance Center, Suite 2650, 36 East 7th Street, Cincinnati, OH 45202

Office of the Executive Secretary, Foreign-Trade Zones Board, U.S. Department of Commerce, Room 3716, 14th Street & Pennsylvania Avenue, NW, Washington, DC 20230.

Dated: July 27, 2000.
Dennis Puccinelli,
Executive Secretary, Foreign-Trade Zones Board.

[FR Doc. 00-19691 Filed 8-2-00; 8:45 am]

BILLING CODE 3510-DS-P